ENVIRONMENTAL PROTECTION AGENCY

[EPA-HQ-OAR-2021-0125; FRL-9664-01-OMS]

Information Collection Request Submitted to OMB for Review and Approval; Comment Request; NESHAP for Polyvinyl Chloride and Copolymers Production (Renewal)

AGENCY: Environmental Protection Agency (EPA).

ACTION: Notice.

SUMMARY: The Environmental Protection Agency (EPA) has submitted an information collection request (ICR), NESHAP for Polyvinyl Chloride and Copolymers Production (EPA ICR Number 2432.06, OMB Control Number 2020-0666), to the Office of Management and Budget (OMB) for review and approval in accordance with the Paperwork Reduction Act. This is a proposed extension of the ICR, which is currently approved through April 30, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 15, 2022.

ADDRESSES: Submit your comments, referencing Docket ID Number EPA-HQ-OAR-2021-0125, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Polyvinyl Chloride and Copolymers Production (40 CFR part 63, subpart HHHHHHH) apply to both existing and new PVC production facilities. Area source PVC facilities are subject to 40 CFR part 63, subpart DDDDDD and not covered in this ICR. New facilities include those that either commenced construction or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP. This information is being collected to assure compliance with 40 CFR part 63, subpart HHHHHHH.

Form Numbers: None.

Respondents/affected entities: Polyvinyl chloride and copolymer production facilities that are major sources of HAP.

Respondent's obligation to respond: Mandatory (40 CFR part 63, subpart HHHHHHH).

Estimated number of respondents: 13 (total).

Frequency of response: Initially, occasionally, and semiannually.

Total estimated burden: 318,000 hours (per year). Burden is defined at 5 CFR 1320.3(b).

Total estimated cost: $44,700,000 (per year), which includes $7,140,000 in annualized capital/startup and/or operation & maintenance costs.

Changes in the Estimates: The decrease in burden from the most-recently approved ICR is due to four adjustments. There is an adjustment decrease in the total estimated burden as currently identified in the OMB Inventory of Approved Burdens. The adjustment decrease in burden from the most-recently approved ICR is due to a decrease in the number of respondents. The most-recently approved ICR estimated 15 major source facilities. The Wacker-Calvert City facility has ceased PVC operations. Although the previous ICR considered the Formosa—Point Comfort operations to be two facilities, this ICR more appropriately considers these operations as a single respondent, due to shared equipment, controls, and/or employees. Therefore, this ICR renewal considers there to be 13 major source facilities. The adjustment decrease is also due to a correction to the number of hours needed for existing respondents to refamiliarize with rule requirements each year.

The adjustment decrease is also offset by corrections to burden estimates for resin sampling, PRD electronic monitor review, gasholders, storage vessels, and ongoing inspections of bypasses, and to the number of occurrences per year for recordkeeping requirements to more accurately reflect facility activities.

There is an increase in the operation and maintenance (O&M) costs, as calculated in section 6(b)(iii), compared with the costs in the previous ICR. Although the number of respondents with O&M decreased, corrections were made to the annual O&M costs for VC ambient monitoring, uncontrolled wastewater testing, and uncontrolled wastewater Non-VC TOHAP testing to more accurately reflect both the number of monitors per facility and the number of waste streams sampled per facility.

Courtney Kerwin,
Director, Regulatory Support Division.

[FR Doc. 2022-05510 Filed 3-15-22; 8:45 am]

BILLING CODE 6560-50-P